DEPARTMENT OF ENERGY

Federal Energy Regulatory Commission

[Docket No. CP93-541-010]

Young Gas Storage Company, Ltd.; Notice of Application

February 1, 2002.

Take notice that on January 28, 2002, Young Gas Storage Company, Ltd. (Young), Post Office Box 1087, Colorado Springs, Colorado, 80944, filed an application pursuant to Section 7 of the Natural Gas Act and Rules 207 and 2001, et seq., for the Commission's Rules of Practice and Procedure to amend the orders issues on June 22, 1994 at Docket Nos. CP93-541-000 and 001, October 5, 1995 at Docket Nos. CP93-541-004 and 006, August 30, 1996 at Docket No. CP93-541-007, September 16, 1997 at Docket No. CP93-541-008, and May 8, 1998 at Docket No. CP93-541-009. Young seeks amended authorization to modify the current maximum volumes of working gas and base gas that it may store. Copies of this filing are on file with the Commission and are available for public inspection. This filing may also be viewed on the web at http://www.ferc.gov using the “RIMS” link, select “Docket#” and follow the instructions (call 202-208-2222 for assistance).

The Young gas storage field was initially developed for 5,271 MMcf of working gas and 4,674 MMcf of base gas. Young seeks to amend its certificate to remove 519 MMcf of base gas and add 519 MMcf to its working gas inventory, to maintain its certificated total capacity of 9,945 MMcf. Young, also, seeks to amend its approved Tariff by modifying the following: (i) ADWQ; (ii) reservoir integrity limit curve; (iii) average daily injection quantity; and (iv) maximum daily injection and withdrawal quantities. Young states the change in working and base gas will allow it to maximize the effectiveness of the storage field, the proposed changes will not affect existing shipper rates, and there will be no landowner or environmental impacts because the proposed changes are operational in nature.

Any questions regarding the application should be directed to Robert T. Tomlinson, Director, Regulatory Affairs, Colorado Interstate Gas Company, as Operator for Young Gas Storage Company, Ltd., Post Office Box 1087, Colorado Springs, Colorado, 80944; telephone 719-520-3788.

There are two ways to become involved in the Commission's review of this project. First, any person wishing to obtain legal status by becoming a party to the proceedings for this project should, on or before February 11, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-2971 Filed 2-6-02; 8:45 am]

BILLING CODE 6717-01-P